DEPARTMENT OF ENERGY

Federal Energy Regulatory Commission

Combined Notice of Filings #1

Take notice that the Commission received the following electric rate filings:

Docket Numbers: ER14-2154-007.

Applicants: Midcontinent Independent System Operator, Inc.

Description: Compliance filing: 2017-11-07_Rate Schedule 34_SMMPA-RPU Joint Pricing Zone Agreement to be effective 12/1/2014.

Filed Date: 11/7/17.

Accession Number: 20171107-5158.

Comments Due: 5 p.m. ET 11/28/17.

Docket Numbers: ER16-1480-002.

Applicants: Midcontinent Independent System Operator, Inc., White Pine Electric Power L.L.C.

Description: Compliance filing: 2017-11-07_SA 6507 White Pine 1 SSR Agreement Reflecting Settlement to be effective 4/16/2016.

Filed Date: 11/7/17.

Accession Number: 20171107-5096.

Comments Due: 5 p.m. ET 11/28/17.

Docket Numbers: ER17-615-001.

Applicants: Albany Green Energy, LLC.

Description: Notice of Change in Status of Albany Green Energy, LLC.

Filed Date: 11/6/17.

Accession Number: 20171106-5350.

Comments Due: 5 p.m. ET 11/27/17.

Docket Numbers: ER17-2470-000; ER17-2457-000.

Applicants: Red Dirt Wind Project, LLC, Rock Creek Wind Project, LLC.

Description: Second Amendment to September 13, 2017 Red Dirt Wind Project, LLC tariff filing, et al.

Filed Date: 11/2/17.

Accession Number: 20171102-5148.

Comments Due: 5 p.m. ET 11/24/17.

Docket Numbers: ER18-255-000.

Applicants: Canton Mountain Wind, LLC.

Description: § 205(d) Rate Filing: Certificate of Concurrence to be effective 11/7/2017.

Filed Date: 11/6/17.

Accession Number: 20171106-5338.

Comments Due: 5 p.m. ET 11/27/17.

Docket Numbers: ER18-256-000.

Applicants: PJM Interconnection, L.L.C.

Description: § 205(d) Rate Filing: Original WMPA, Service Agreement No. 4839, Queue No. AC2-009 to be effective 10/12/2017.

Filed Date: 11/7/17.

Accession Number: 20171107-5115.

Comments Due: 5 p.m. ET 11/28/17.

Docket Numbers: ER18-257-000.

Applicants: Southern California Edison Company.

Description: § 205(d) Rate Filing: Letter Agreements with Hecate Energy Johanna Facility LLC to be effective 11/8/2017.

Filed Date: 11/7/17.

Accession Number: 20171107-5129.

Comments Due: 5 p.m. ET 11/28/17.

Docket Numbers: ER18-258-000.

Applicants: PJM Interconnection, L.L.C.

Description: § 205(d) Rate Filing: Amendment to ISA No. 1787, Queue S63 to be effective 10/5/2007.

Filed Date: 11/7/17.

Accession Number: 20171107-5150.

Comments Due: 5 p.m. ET 11/28/17.

Docket Numbers: ER18-260-000.

Applicants: PJM Interconnection, L.L.C.

Description: § 205(d) Rate Filing: Amendment to SA Nos. 1570, 2510 and 2534 re: Dayton transfer to AES Ohio to be effective 5/17/2010.

Filed Date: 11/7/17.

Accession Number: 20171107-5179.

Comments Due: 5 p.m. ET 11/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2017.
Nathaniel J. Davis, Sr.,
Deputy Secretary.

[FR Doc. 2017-24580 Filed 11-13-17; 8:45 am]

BILLING CODE 6717-01-P